DEPARTMENT OF TRANSPORTATION

Coast Guard

33 CFR Part 165

[PAC AREA-02-001]

RIN 2115-AG33

Protection of Naval Vessels

AGENCY: Coast Guard, DOT.

ACTION: Notice of proposed rulemaking; correction.

SUMMARY: This document corrects a notice of proposed rulemaking published in the Federal Register on March 20, 2002, concerning a proposed final rule for the Pacific Area Naval Vessel Protection Zone. That document contained an inaccurate regulation identifier number (RIN). The correct RIN appears in the heading of this document.

FOR FURTHER INFORMATION CONTACT: LT P. Springer, PACAREA (pm), Coast Guard Island, Alameda (510) 437-2951.

SUPPLEMENTARY INFORMATION:

PART 165—[CORRECTED]

Correction

The heading of the notice of proposed rulemaking (NPRM) published March 20, 2002, on page 12940 of the Federal Register, contained an incorrect regulation identifier number, 2115-AG23. The correct RIN is 2115-AG33. To advise the public of this error, we are publishing this notice of correction.

Correction of Publication

Accordingly, the Protection of Naval Vessels NPRM published March 20, 2002, FR Doc. 02-6766, [docket number PAC AREA-02-001], is corrected as follows: On page 12940, in the heading, “RIN 2115-AG23” is corrected to read “RIN 2115-AG33”.

Dated: April 3, 2002.
S.G. Venckus,
Chief, Office of Regulations and Administrative Law, United States Coast Guard.

[FR Doc. 02-8439 Filed 4-5-02; 8:45 am]

BILLING CODE 4910-15-P